DEPARTMENT OF AGRICULTURE

Farm Service Agency

Information Collection; Certified State Mediation Program

AGENCY: Farm Service Agency, USDA.

ACTION: Notice; request for comments.

SUMMARY: In accordance with the Paperwork Reduction Act of 1995, the Farm Service Agency (FSA) is seeking comments from all interested individuals and organizations on an extension and revision of a currently approved information collection that supports the Certified State Mediation Program. The information collection is necessary to ensure the grant program is being administered properly. The collection of information by mail, phone, fax, in person, and by the Internet is utilized by FSA to initially determine whether the State meets the eligibility criteria to be a recipient of grant funds. Lack of adequate information to make these determinations could result in the improper administration and appropriation of Federal grant funds.

DATES: Comments on this notice must be received on or before October 26, 2009.

ADDRESSES: We invite you to submit comments on this notice. In your comments, include date, volume, and page number of this issue of the Federal Register. You may submit comments by any of the following methods:

• Mail: Ternechue Butler, Mediation Coordinator, USDA, FSA, Outreach Staff, 1400 Independence Avenue, SW., Ag Stop 0511, Washington, DC 20250-0511

• E-mail: Ternechue.Butler@wdc.usda.gov.

• Fax: (202) 690-4727.

You may also send comments to the Desk Officer for Agriculture, Office of Information and Regulatory Affairs, Office of Management and Budget, Washington, DC 20503. Copies of the information collection may be requested by contacting Ternechue Butler at the above addresses.

FOR FURTHER INFORMATION CONTACT: Ternechue Butler, FSA, Outreach Staff, telephone (202) 690-1098.

SUPPLEMENTARY INFORMATION: Title: Certified State Mediation Program.

OMB Control Number: 0560-0165.

Expiration Date of Approval: March 31, 2010.

Type of Request: Extension and revision of a currently approved information collection.

Abstract: This information is needed for FSA to effectively administer the Certified State Mediation Program in accordance with Subtitles A and B of Title V of the Agricultural Credit Act of 1987 (Pub. L. 100-233). FSA requires some of the collected information to be reported in a standard manner. Although other institutions, public and private, generally require and collect information similar to that requested by FSA, there is a wide diversity in reporting practices.

The information to be collected includes an application for certification, re-verification for subsequent annual approval, SF-424, SF-424A, and SF-424B Application for Federal Assistance, financial management systems and reporting requirements, and audit reports. No additional information is being requested; however, the estimated number of respondents has increased from 32 to 34.

The information requested is reported annually and is necessary for the FSA to determine eligibility and administer the mediation grant program in an equitable and cost-effective manner.

Estimate of Burden: The public reporting burden for this information collection is estimated to average 34 hours per respondent.

Respondents: State Agencies.

Estimated Number of Respondents: 34.

Estimated Number of Responses per Respondent: 5.

Estimated Total Annual Burden on Respondents: 1088 hours.

We are requesting comments on all aspects of this information collection, including the following to help us to:

(1) Evaluate whether the collection of information is necessary for the proper performance of the functions of the agency, including whether the information will have practical utility;

(2) Evaluate the accuracy of the agency's estimate of burden including the validity of the methodology and assumptions used;

(3) Enhance the quality, utility and clarity of the information to be collected;

(4) Minimize the burden of the collection of information on those who are to respond, including through the use of appropriate automated, electronic, mechanical, or other technological collection techniques or other forms of information technology.

All comments to this notice will be summarized and included in the request for OMB approval. All comments will also become a matter of public record.

Signed in Washington, DC, on August 21, 2009.
Jonathan W. Coppess,
Administrator, Farm Service Agency.

[FR Doc. E9-20638 Filed 8-26-09; 8:45 am]

BILLING CODE 3410-05-P